ENVIRONMENTAL PROTECTION AGENCY

[FRL-7209-6]

Air Quality Criteria for Particulate Matter (External Review Draft)

AGENCY: Environmental Protection Agency (EPA).

ACTION: Notice of a draft for public review and comment.

SUMMARY: On or about May 8, 2002, the National Center for Environmental Assessment (NCEA), within EPA's Office of Research and Development, will make available for public review and comment a third external review draft of EPA's document Air Quality Criteria for Particulate Matter. Under sections 108 and 109 of the Clean Air Act, the purpose of this document is to provide an assessment of the latest scientific information on the effects of airborne particulate matter (PM) on the public health and welfare for use in EPA's current review of the National Ambient Air Quality Standards (NAAQS) for PM.

DATES: Comments on the draft document must be submitted in writing no later than July 10, 2002. Send the written comments to the Project Manager for Particulate Matter, National Center for Environmental Assessment-RTP (MD-52), U.S. Environmental Protection Agency, Research Triangle Park, NC 27711.

ADDRESSES: A copy of the Air Quality Criteria for Particulate Matter (Third External Review Draft), consisting of two volumes, will be available on CD ROM from NCEA-RTP. Contact Ms. Diane Ray by phone (919-541-3637), fax (919-541-1818), or e-mail (ray.diane@epa.gov) to request the document. Please provide the document's title, Air Quality Criteria for Particulate Matter (Third External Review Draft), and the EPA numbers for each of the two volumes (EPA/600/P-99/002aC, EPA/600/P-99/002bC), as well as your name and address, to properly process your request. Internet users will be able to download a copy from the NCEA home page. The URL is http://www.epa.gov/ncea/. Hard copies of the draft document can also be made available upon request.

FOR FURTHER INFORMATION CONTACT: Dr. Dennis Kotchmar, National Center for Environmental Assessment-RTP (MD-52), U.S. Environmental Protection Agency, Research Triangle Park, NC 27711; telephone: 919-541-4158; fax: 919-541-1818; e-mail: kotchmar.dennis@epa.gov.

SUPPLEMENTARY INFORMATION: EPA is in the process of updating and revising, where appropriate, its Air Quality Criteria for Particulate Matter as issued in 1996. Sections 108 and 109 of the Clean Air Act require that EPA carry out a periodic review and revision, where appropriate, of the air quality criteria and NAAQS for “criteria” air pollutants such as PM. Details of EPA's plans for the review of the NAAQS for PM were initially announced in a previous Federal Register notice (62 FR 55201, October 23, 1997). EPA made a First External Review Draft of the updated Air Quality Criteria for Particulate Matter available for review by the Clean Air Act Scientific Advisory Committee (CASAC) and members of the public in October 1999 (64 FR 57884, October 27, 1999). Following that public review period and a meeting of the CASAC in December 1999 (64 FR 61875, November 15, 1999), EPA revised the document as appropriate to incorporate CASAC and public comments, as well as to reflect many studies on the health effects of PM that were not available in time for discussion in the First External Review Draft.

EPA then made a Second External Review Draft of the Air Quality Criteria for Particulate Matter available for CASAC and public review in April 2001 (66 FR 18929, April 12, 2001). Following that public review period and a second CASAC meeting in July 2001 (66 FR 34924, July 2, 2001), EPA again revised the document as appropriate to incorporate CASAC and public comments and also made further revisions reflecting new studies on health effects of particulate matter that had become available between issuance of the First and Second External Review Drafts.

EPA is now making a Third External Review Draft available for CASAC and public review. A public meeting with CASAC is scheduled for July 18-19, 2002 (67 FR 15802, April 3, 2002). At the close of CASAC's review, EPA will make final revisions to complete the document.

On June 15, 2001, EPA's Office of Air Quality Planning and Standards (OAQPS) made available for public review and comment (66 FR 32621, June 15, 2001) a preliminary draft Staff Paper (SP) that drew on information in the earlier draft criteria document. The preliminary draft was also submitted to CASAC for discussion with the Committee at its July 2001 meeting. In January 2002 (67 FR 3897, January 28, 2002), OAQPS also made available for CASAC and public review and comment a draft document, Proposed Methodology for Particulate Matter Risk Analyses for Selected Urban Areas, which was reviewed by CASAC at a public teleconference on February 27, 2002. OAQPS is now revising the draft SP and the draft risk analyses methodology document to address CASAC and public comments and to incorporate updated information from the current draft criteria document. As in other NAAQS reviews, the SP will evaluate policy implications of key studies and other scientific information in the criteria document, identify critical elements that EPA staff believes should be considered, and present staff conclusions and recommendations for the Administrator's consideration. Dates and details of availability of the updated draft SP and methodology documents and plans for future public meetings on these documents will be published in the Federal Register.

Dated: May 3, 2002.
George Alapas,
Acting Director, National Center for Environmental Assessment.

[FR Doc. 02-11648 Filed 5-8-02; 8:45 am]

BILLING CODE 6560-50-P